DEPARTMENT OF ENERGY

Federal Energy Regulatory Commission

[Docket No. PF15-15-000]

Annova LNG Common Infrastructure, LLC, Annova LNG Brownsville A, LLC, Annova LNG Brownsville B, LLC, Annova LNG Brownsville C, LLC; Notice of Intent To Prepare an Environmental Impact Statement For the Planned Annova LNG Brownsville Project, Request for Comments on Environmental Issues, and Notice of Public Scoping Meeting

The staff of the Federal Energy Regulatory Commission (FERC or Commission) will prepare an environmental impact statement (EIS) that will discuss the environmental impacts of the planned Annova LNG Brownsville Project (Project) involving construction and operation of a liquefied natural gas (LNG) production, storage, and export facility by Annova LNG Common Infrastructure, LLC; Annova LNG Brownsville A, LLC; Annova LNG Brownsville B, LLC; and Annova LNG Brownsville C, LLC (collectively, Annova) in Cameron County, Texas. The Commission will use this EIS in its decision-making process to determine whether the project is in the public interest.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC on or before August 24, 2015.

If you sent comments on this project to the Commission before March 11, 2015, you will need to file those comments in Docket No. PF15-15-000 to ensure they are considered as part of this proceeding.

This notice is being sent to the Commission's current environmental mailing list for this project. State and local government representatives should notify their constituents of this planned project and encourage them to comment on their areas of concern. If you are a landowner receiving this notice, an Annova representative may contact you about the acquisition of lands needed to construct, operate, and maintain the planned facilities.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF15-15-000) with your submission: Kimberly D. Bose, Secretary, Federal Energy Regulatory Commission, 888 First Street NE., Room 1A, Washington, DC 20426.

(4) In lieu of sending written or electronic comments, the Commission invites you to attend the public scoping meeting its staff will conduct in the Project area, scheduled as follows.

FERC Public Scoping Meeting, Annova LNG Brownsville Project, Tuesday, August 11, 2015, From 1:00 p.m. to 8:00 p.m., Port Isabel Event & Cultural Center, 309 E. Railroad Ave., Port Isabel, TX 78578

You may attend at any time during the scoping meeting. There will not be a formal presentation by Commission staff, but you will be provided information about the FERC process. Commission staff will be available to take verbal comments.

For your convenience, we are combining the Port Isabel scoping meetings for the three Brownsville area LNG projects currently in our pre-filing process. Representatives of Annova, as well as those of Texas LNG Brownsville LLC for its planned Texas LNG Brownsville LNG Project (Docket No. PF15-14-000) and Rio Grande LNG, LLC for its planned Rio Grande LNG Export Project and Rio Bravo Pipeline Company, LLC for its planned Rio Bravo Pipeline Project (Docket No. PF15-20-000) will be present to answer questions about their respective planned projects.

You may comment on any one, two, or all three planned projects. Comments will be recorded by a stenographer and transcripts will be placed into the appropriate docket(s) for the project and made available for public viewing on FERC's eLibrary system (see page 8 “Additional Information” for instructions on using eLibrary). We believe it is important to note that verbal comments hold the same weight as written or electronically submitted comments. If a significant number of people are interested in providing verbal comments, a time limit of 3 to 5 minutes may be implemented for each commenter to ensure all those wishing to comment have the opportunity to do so within the designated meeting time. Time limits will be strictly enforced if they are implemented.

Please note this is not your only public input opportunity; please refer to the review process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

Annova plans to construct, own, and operate the Project on the southern bank of the Brownsville Ship Channel (BSC) at mile marker 8.2, in Cameron County, Texas. The site is owned by the Port of Brownsville (Port) and Annova has entered into a Lease Option Agreement for possible use of the site. The BSC has direct access to the Gulf of Mexico via the Brazos Santiago Pass and is within an area that has no zoning restrictions.

The Project would include six liquefaction trains with a total capacity of 6 million tonnes per annum of LNG. The natural gas delivered to the site would be treated, liquefied, and stored on site in two single containment LNG storage tanks, each with a net capacity of approximately 160,000 cubic meters. The LNG would be loaded onto LNG carriers (LNGCs) for export to overseas markets. On February 20, 2014, in Order No. 3394, the U.S. Department of Energy, Office of Fossil Energy, granted to Annova a long-term, multi-contract authorization to export LNG to Free Trade Agreement nations.

The Project includes two principal parts: the LNG facilities and the associated marine facilities. The LNG facilities would be designed to receive 0.89 billion cubic feet per day of feed gas via pipeline; treat the gas to remove constituents that affect the cryogenic process; liquefy the gas; and store the LNG in storage tanks prior to loading for shipment. The marine facilities would include an LNGC berth, a tug berth, a dock for support and security vessels, and a material offloading facility.

The Project would consist of the following facilities:

• Pipeline meter station;

• liquefaction facilities;

• two LNG storage tanks;

• marine and LNG transfer facilities;

• control room, administration/maintenance building; and

• utilities (site access road, power, water, and communication systems).

The general location of the project facilities is shown in appendix 2.

Land Requirements for Construction

The Project would be located within a parcel of 655 acres that is currently under a Least Option Agreement between Annova and the Port. Constructing the Project would affect approximately 580 acres of land. Following construction approximately 400 acres would be permanently converted for operation of the Project.

Non-Jurisdictional Facilities

Annova intends to receive natural gas for the facility from Energy Transfer Partners' intrastate pipeline system that is not under the jurisdiction of the FERC. Energy Transfer Partners has near-term plans to expand its existing system by constructing the Isla Grande Pipeline, a multi-customer pipeline connecting the Agua Dulce Hub in Nueces County, Texas, to end-users in Mexico and the Brownsville area. As part of this expansion, Energy Transfer Partners also plans to construct a lateral from the Isla Grande Pipeline eastward along the BSC to supply potential customers. This pipeline, known as the BND South Delivery Header, would include an interconnection to the Project site.

Although FERC doesn't have the regulatory authority to modify or deny the construction of the above-described facilities, we will disclose available information regarding the construction impacts in the cumulative impacts section of our EIS.

The EIS Process

The National Environmental Policy Act (NEPA) requires the Commission to take into account the environmental impacts that could result from an action whenever it considers the authorization of LNG facilities under Section 3 of the Natural Gas Act. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the planned project under these general headings:

• Geology and soils;

• water resources and wetlands;

• vegetation, fisheries, and wildlife;

• endangered and threatened species;

• land use;

• socioeconomics;

• cultural resources;

• air quality and noise;

• public safety and reliability;

• environmental justice; and

• cumulative impacts.

We will also evaluate possible alternatives to the planned Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2.

With this notice, we are asking agencies with jurisdiction by law and/or special expertise with respect to environmental issues related to this project to formally cooperate with us in the preparation of the EIS.³ Agencies that would like to request cooperating agency status should follow the instructions for filing comments provided under the Public Participation section of this notice. Currently, the U.S. Department of Energy, U.S. Department of Transportation, U.S. Coast Guard, U.S. Fish and Wildlife Service, U.S. Environmental Protection Agency, and the U.S. Army Corps of Engineers have expressed their intention to participate as cooperating agencies in the preparation of the EIS.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Office (SHPO), and to solicit their views and those of other government agencies, interested Indian tribes, and the public on the Project's potential effects on historic properties.⁴ We will define the project-specific Area of Potential Effects (APE) in consultation with the SHPO as the Project develops. On natural gas facility projects, the APE at a minimum encompasses all areas subject to ground disturbance (examples include LNG facility site, contractor/equipment storage yards, and access roads). Our EIS for this Project will document our findings on the impacts on historic properties and summarize the status of consultations under section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities, the environmental information provided by Annova, and early comments filed with FERC. This preliminary list of issues may change based on your comments and our analysis.

• Potential impacts on water quality;

• potential impacts on wetlands and estuaries;

• potential impact on fisheries and aquatic resources;

• potential impact on Federally listed endangered and threatened species;

• potential impact on the Lower Rio Grande Valley National Wildlife Refuge (NWR) including the area known as the Loma Ecological Preserve, and the Laguna Atascosa NWR;

• visual effects on surrounding areas;

• potential impacts on tourism and recreational and commercial fisheries;

• potential for disproportionate impact on lower income communities;

• potential impacts on air quality;

• public health and safety; and

• cumulative impacts.

Environmental Mailing List

The environmental mailing list includes federal, state, and local government representatives and agencies; elected officials; environmental and public interest groups; Native American Tribes; other interested parties; and local libraries and newspapers. This list also includes all affected landowners (as defined in the Commission's regulations), whose property may be used temporarily for project purposes, or who own homes within certain distances of aboveground facilities, and anyone who submits comments on the Project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version or would like to remove your name from the mailing list, please return the attached Information Request (appendix 3).

Becoming an Intervenor

Once Annova files its application with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “eFiling” link on the Commission's Web site. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF15-15). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: July 23, 2015.
Kimberly D. Bose,
Secretary.

[FR Doc. 2015-18683 Filed 7-29-15; 8:45 am]

BILLING CODE 6717-01-P